DEPARTMENT OF COMMERCE

Office of the Secretary

[Docket No. 070703259-7263-01]

Privacy Act of 1974: System of Records

AGENCY: Department of Commerce.

ACTION: Notice to amend all Privacy Act System of Records.

SUMMARY: In accordance with the President's Identity Theft Task Force's Strategic Plan, the Department of Commerce is issuing notice of intent to establish a new routine use to be added to all Privacy Act System of Records. We invite public comment on the proposed new routine use.

DATES: To be considered, written comments must be submitted on or before September 10, 2007. Unless comments are received, the new routine use will become effective as proposed on the date of publication of a subsequent notice in the Federal Register.

FOR FURTHER INFORMATION CONTACT: Brenda Dolan, Departmental Freedom of Information and Privacy Act Officer, Office of Management and Organization, 202-482-3258.

ADDRESSES: Comments may be mailed to Brenda Dolan, Departmental Freedom of Information and Privacy Act Officer, Office of Management and Organization, Room 5327, 1401 Constitution Avenue, NW., Washington, DC 20230.

SUPPLEMENTARY INFORMATION: On May 10, 2006 the President established the Identity Theft Task Force by Executive Order 13402 to strengthen Federal efforts to protect against identity theft. This notice establishes a routine use for all Department of Commerce systems of records to permit disclosure to appropriate persons or entities for purposes of response and remedial efforts in the event of a suspected or confirmed breach of the data contained in the systems. This routine use will facilitate an effective response to such breach by allowing for disclosure to those individuals affected by the breach, as well as to others who are in a position to assist the Department's response efforts, either by assisting in notification to affected individuals or otherwise assisting in preventing, minimizing, or remedying harms from any breach. A description of the amendment to the Department's systems of records is provided below.

The Department of Commerce notices as published in the Privacy Act Issuances 2005 Compilation:

COMMERCE/DEPARTMENT-1, Attendance, Leave and Payroll Records of Employees and Certain Other Persons.

COMMERCE/DEPARTMENT-2, Accounts Receivable.

COMMERCE/DEPARTMENT-3, Conflict of Interest Records, Appointed Officials.

COMMERCE/DEPARTMENT-4, Congressional Files.

COMMERCE/DEPARTMENT-5, Freedom of Information and Privacy Requests Records.

COMMERCE/DEPARTMENT-6, Visitor Logs and Permits for Facilities Under Department Control.

COMMERCE/DEPARTMENT-7, Employee Accident Reports.

COMMERCE/DEPARTMENT-8, Employee Applications for Motor Vehicle Operator's Card.

COMMERCE/DEPARTMENT-9, Travel Records (Domestic and Foreign) of Employees and Certain Other Persons.

COMMERCE/DEPARTMENT-10, Executive Correspondence Files.

COMMERCE/DEPARTMENT-11, Candidates for Membership, Members and Former Members of the Department of Commerce Advisory Committees.

COMMERCE/DEPARTMENT-12, Investigative and Inspection Records.

COMMERCE/DEPARTMENT-13, Investigative and Security Records.

COMMERCE/DEPARTMENT-14, Litigation, Claims, and Administrative Proceeding Records.

COMMERCE/DEPARTMENT-15, Private Legislation Claimants-Central Legislative Files.

COMMERCE/DEPARTMENT-16, Property Accountability Files.

COMMERCE/DEPARTMENT-17, Records of Cash Receipts.

COMMERCE/DEPARTMENT-18, Employee Personnel Files Not Covered by Notices of Other Agencies.

COMMERCE/DEPARTMENT-19, Department Mailing Lists.

COMMERCE/DEPARTMENT-20, Biographical Files.

COMMERCE/DEPARTMENT-21, Telephone Call Detail Records.

COMMERCE/DEPARTMENT-22, Small Purchase Records.

CENSUS-2, Employee Productivity Measurement Records.

CENSUS-3, Individual and Household Statistical Surveys and Special Studies Records.

CENSUS-4, Women and Minority-Owned Business Enterprises Survey Records.

CENSUS-5, Population and Housing Census Records of the 2000 Census Including Preliminary Statistics for the 2010 Decennial Census.

CENSUS-6, Population Census Records for the 1910 and All Subsequent Decennial Censuses.

CENSUS-7, Special Censuses of Population Conducted for State and Local Government.

CENSUS-8, Statistical Administrative Records System.

CENSUS-9, Longitudinal Employer-Household Dynamics System.

ITA-1, Individuals Identified in Export Transactions.

ITA-2, Individuals Involved in International Business Trade Complaints.

ITA-3, Mission Directors/Seminar Chairman/Industry Technical Representatives.

ITA-4, Membership Information: District Export Councils.

ITA-5, National Defense Executive Reserve Personnel Folders.

ITA-6, Foreign Service Officer Evaluations.

ITA-7, Export.gov Community Registration.

IATC-1, Auditor Trainee Registrants.

MBDA-1, Descriptive Data Questionniare.

NBS-1, NBS Guest Workers.

NBS-2, Inventors of Energy-Related Processes and Devices.

NBS-3, Research Associates.

NBS-4, Employees External Radiation Exposure Records.

NBS-5, Nuclear Reactor Operator Licensees File.

NBS-6, Participants in Experiments, Studies, and Surveys.

NBS-7, NBS Emergency Locator System.

NOAA-1, Applicants for the NOAA Corps.

NOAA-2, Commissioned Officers Official Travel Orders Folders.

NOAA-3, Commissioned Officer Official Personnel Folders.

NOAA-4, Commissioned Officers Retired Payroll.

NOAA-5, Fisheries Law Enforcement Case Files.

NOAA-6, Fishermen's Statistical Data.

NOAA-7, Guest Workers at National Geophysical and Solar-Terrestrial Data Center.

NOAA-8, Individuals Engaged in Weather Modification Activities.

NOAA-9, Scientist-Researchers in GATE (Global Atmospheric Research Program Atlantic Tropical Experiment).

NOAA-10, NOAA Diving Program File.

NOAA-11, NOAA Mailing Lists.

NOAA-12, Marine Mammal, Endangered and Threatened Species, Permits, and Exemptions Applications.

NOAA-13, Personnel, Payroll, Travel, and Attendance Records of the Regional Fishery Management Council.

NOAA-14, Dr. Nancy Foster Scholarship Program.

NOAA-15, Alaska Region-North Pacific Groundfish Observer Program: Certified Domestic Observer Final Evaluations.

NOAA-16, Crab Economic Data Report for Bering Sea/Aleutian Islands Management Area (BSAI) off the Coast of Alaska.

NOAA-17, Permits and Registrations for Fisheries of the Exclusive Economic Zone (EEZ) off the Coast of Alaska.

NTIS-1, Individuals Interested in NTIS Publications, Shipped Order Addresses, Customer Account Records, and Subscriber Files.

NTIS-2, Employee Daily Time and Productivity Records.

PAT/TM-1, Attorneys and Agents Registered to Practice Before the Office.

PAT/TM-2, Complaints, Investigations and Disciplinary Proceedings Relating to Registered Patent Attorneys and Agents.

PAT/TM-3, Employee Production Records.

PAT/TM-4, Government Employees Invention Rights.

PAT/TM-5, Non-Registered Persons Rendering Assistance to Patent Applicants.

PAT/TM-6, Parties Involved in Patent Interference Proceedings.

PAT/TM-7, Patent Application Files.

PAT/TM-8, Patent Application Secrecy Order Files.

PAT/TM-9, Patent Assignment Records.

PAT/TM-10, Patent Deposit Accounts System.

PAT/TM-11, Patent Examiner Testimony Files.

PAT/TM-12, Patent Subscription Service System.

PAT/TM-13, Petitioners for Licenses to File for Foreign Patents.

PAT/TM-14, Users of Public Search Room of the Patent and Trademark Office.

PAT/TM-15, Maintenance of Invention Promoter Complaints.

PAT/TM-16, USPTO PKI Registration and Maintenance System.

WBO-1, Talent and Experience File of Women's Business Experts.

Routine Uses of Records Maintained in the System, Including Categories of Users and the Purposes of Such Uses

Records in the above listed systems of records may be disclosed as follows:

To appropriate agencies, entities, and persons when (1) It is suspected or confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

Dated: August 6, 2007.
Brenda Dolan,
Departmental Freedom of Information and Privacy Act Officer.

[FR Doc. E7-15700 Filed 8-9-07; 8:45 am]

BILLING CODE 3510-17-P